NATIONAL SCIENCE FOUNDATION

Sunshine Act Meetings

The National Science Board hereby gives notice of the scheduling of a meeting of the National Science Board/National Science Foundation Commission on Merit Review (MRX) for the transaction of National Science Board business pursuant to the NSF Act and the Government in the Sunshine Act.

TIME AND DATE: The MRX meeting is scheduled for Tuesday, July 23, 2024, from 9:00 a.m.-12:00 p.m. EDT.

PLACE: This meeting will be at the National Science Foundation, 2415 Eisenhower Avenue, Alexandria, VA 22314, and by videoconference.

STATUS: Closed.

MATTERS TO BE CONSIDERED: The agenda for the MRX meeting is: Commission Chair's remarks about the agenda; Discussion with NSF Executive Leadership Team; Discussion of Preliminary Accountability Suggestions; Discussion of Revised Implementation Suggestions; Discussion of Next Steps for Report Preparation; Commission Chair's closing remarks.

CONTACT PERSON FOR MORE INFORMATION: Point of contact for this meeting is: Chris Blair, cblair@nsf.gov, 703/292-7000. Meeting information and updates may be found at www.nsf.gov/nsb.

Ann E. Bushmiller,
Senior Counsel to the National Science Board.

[FR Doc. 2024-16098 Filed 7-18-24; 8:45 am]

BILLING CODE 7555-01-P